SECURITIES AND EXCHANGE COMMISSION

17 CFR Parts 230, 239, 240 and 249

[Release Nos. 33-8407; 34-49566; File No. S7-19-04]

RIN 3235-AH88

Use of Form S-8 and Form 8-K by Shell Companies

Correction

In proposed rule document 04-8963 beginning on page 21650 in the issue of Wednesday, April 21, 2004, make the following corrections:

1. On page 21652, in the first column, in footnote 24, in the fourth line “footnotes , 54 and 57 below” should read “footnotes 31, 54 and 57 below ”.

2. On page 21654, in the first column, in footnote 48, in the first line “See footnote for” should read “See footnote 23 for”.

[FR Doc. C4-8963 Filed 5-4-04; 8:45 am]

BILLING CODE 1505-01-D